DEPARTMENT OF THE INTERIOR

Bureau of Land Management

[LLWO3200000 L19900000.PO0000; OMB Control Number 1004-0114]

Agency Information Collection Activities; Submission to the Office of Management and Budget for Review and Approval; Recordation of Location Notices and Mining Claims; Payment of Fees

AGENCY: Bureau of Land Management, Interior.

ACTION: Notice of information collection; request for comments.

SUMMARY: In accordance with the Paperwork Reduction Act of 1995, the Bureau of Land Management (BLM) is proposing to renew an information collection.

DATES: Interested persons are invited to submit comments on or before December 18, 2019.

ADDRESSES: Send written comments on this information collection request (ICR) to the Office of Management and Budget's Desk Officer for the Department of the Interior by email at OIRA_submission@omb.eop.gov; or via facsimile to (202) 395-5806. Please provide a copy of your comments to the BLM at U.S. Department of the Interior, Bureau of Land Management, 1849 C Street NW, Room 2134LM, Washington, DC 20240, Attention: Jean Sonneman, or by email to jesonneman@blm.gov. Please reference OMB Control Number 1004-0114 in the subject line of your comments.

FOR FURTHER INFORMATION CONTACT: To request additional information about this ICR, contact Elaine Guenaga by email at eguenaga@blm.gov, or by telephone at 775-861-6539. You may also view the ICR at http://www.reginfo.gov/public/do/PRAMain. Persons who use a telecommunication device for the deaf may call the Federal Relay Service at 1-800-877-8339, to leave a message for Ms. Guenaga.

SUPPLEMENTARY INFORMATION: In accordance with the Paperwork Reduction Act of 1995, the BLM provides the general public and other Federal agencies with an opportunity to comment on new, proposed, revised and continuing collections of information. This helps to assess the impact of the BLM's information collection requirements and minimize the public's reporting burden. It also helps the public understand the BLM's information collection requirements and provides the requested data in the desired format. A Federal Register notice with a 60-day public comment period soliciting comments on this collection of information was published on April 16, 2019 (84 FR15636). No comments were received.

We are again soliciting comments on the proposed ICR that is described below. The BLM is especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. The BLM will include or summarize each comment in our request to OMB to approve this ICR. Before including your address, phone number, email address, or other personal identifying information in your comment, you should be aware that your entire comment—including your personal identifying information—may be made publicly available at any time. While you can ask in your comment to the BLM to withhold your personal identifying information from public review, the BLM cannot guarantee that it will be able to do so.

The following information pertains to this request:

Abstract: This control number applies to the location, recording and maintenance of mining claims and sites, in accordance with the Mining Law (30 U.S.C. 22-54), Section 314 of the Federal Land Policy and Management Act (FLPMA) (43 U.S.C. 1744), certain other statutes pertaining to specific Federal lands, and the Stock Raising Homestead Act (43 U.S.C. 299 and 301).

Title of Collection: Recordation of Location Notices and Mining Claims (43 CFR parts 3832, 3833, 3834, 3835, 3836, 3837, and 3838).

OMB Control Number: 1004-0114.

Forms:

• 3830-2, Maintenance Fee Waiver Certification;

• 3830-3, Notice of Intent to Locate a Lode or Placer Mining Claim(s) and/or a Tunnel Site(s) on Lands Patented under the Stock Raising Homestead Act of 1916, As Amended by the Act of April 16, 1993; and

• 3830-4, Affidavit of Annual Assessment Work.

Type of Review: Extension of a currently approved collection.

Respondents/Affected Public: Mining claimants.

Total Estimated Number of Annual Respondents: 191,492.

Total Estimated Number of Annual Responses: 191,492.

Estimated Completion Time per Response: Varies from 30 to 60 minutes per response.

Total Estimated Number of Annual Burden Hours: 91,680.

Respondent's Obligation: Required to obtain a benefit.

Frequency of Collection: On occasion, except Form 3830-2 (which may be filed annually) and annual FLPMA documents (are to be filed annually when required).

Total Estimated Annual Nonhour Burden Cost: $3,078,360.

An agency may not conduct or sponsor—and a person is not required to respond to—a collection of information unless it displays a currently valid OMB control number.

The authority for this action is the Paperwork Reduction Act of 1995 (44 U.S.C. 3501 et seq.).

Chandra Little,
Regulatory Analyst, Bureau of Land Management.

[FR Doc. 2019-24909 Filed 11-15-19; 8:45 am]

BILLING CODE 4310-84-P